DEPARTMENT OF HOMELAND SECURITY

U.S. Customs and Border Protection

[1651-0139]

Electronic Visa Update System (EVUS)

AGENCY: U.S. Customs and Border Protection (CBP), Department of Homeland Security.

ACTION: 30-day notice and request for comments; revision of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than March 25, 2022) to be assured of consideration.

ADDRESSES: Written comments and/or suggestions regarding the item(s) contained in this notice should be sent within 30 days of publication of this notice to www.reginfo.gov/public/do/PRAMain. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (86 FR 64507) on November 18, 2021, allowing for a 60-day comment period. This notice allows for an additional 30 days for public comments. This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Electronic Visa Update System (EVUS).

OMB Number: 1651-0139.

Form Number: N/A.

Current Actions: Revision of an existing information collection with no change in burden.

Type of Review: Revision.

Affected Public: Individuals.

Abstract: DHS developed the Electronic Visa Update System (EVUS) to assure robust screening of foreign nationals prior to travel to the United States. EVUS provides for robust traveler screening and verification to better identify foreign nationals who may be inadmissible to the United States. This results in enhanced national security, improved public safety, and a reduced number of delays upon arrival in the United States, all while facilitating legitimate travel.

Initially, the program is limited to nonimmigrant aliens presenting passports issued by the People's Republic of China (PRC) containing unrestricted, maximum validity B-1 (business visitor), B-2 (visitor for pleasure), or combination B-1/B-2 visas, generally valid for 10 years. PRC membership in EVUS became possible on November 12, 2014, when, in a reciprocal agreement, the U.S. Department of State expanded the validity of U.S. visitor visas issued to PRC nationals from one to ten years.

To ensure compliance with the Visa Waiver Program Improvement and Terrorist Travel Prevention Act of 2015, Pub. L. 114-113, 129 Stat. 2242, CBP will continuously update the application question with the list of nationals ineligible to travel to the United States under the VWP, as designated in accordance with section 217(a)(12) of the Immigration and Nationality Act, as amended (8 U.S.C. 1187(a)(12)).

Recent Changes: On May 31, 2019, the Department of State updated its immigrant and nonimmigrant visa application forms to request additional information, specifically social media identifiers, from most U.S. visa applicants worldwide. As a result, DHS is changing the EVUS application social media data field from optional to mandatory. National security is the top priority when adjudicating EVUS applications, and every prospective traveler to the United States undergoes extensive security screening. CBP is continually working to find mechanisms to improve our screening processes to protect U.S. visitors while supporting legitimate travel to the United States. DHS already requests information on contacts, travel history, and family members from all EVUS applicants. Changing the social medial field to mandatory in the EVUS application will enhance our vetting capabilities and assist in confirming applicants' identities. While the field is mandatory, applicants will still have the ability to select “none”.

Type of Information Collection: EVUS

Estimated Number of Respondents: 3,595,904.

Estimated Number of Annual Responses per Respondent: 1.

Estimated Number of Total Annual Responses: 3,595,904.

Estimated Time per Response: 25 minutes.

Estimated Total Annual Burden Hours: 1,499,492.

Dated: February 17, 2022.
Seth D. Renkema,
Branch Chief, Economic Impact Analysis Branch, U.S. Customs and Border Protection.

[FR Doc. 2022-03815 Filed 2-22-22; 8:45 am]

BILLING CODE P